DEPARTMENT OF HOMELAND SECURITY

Federal Emergency Management Agency

[Docket ID FEMA-2013-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama: Coffee (FEMA Docket No.: B-1285) | City of Enterprise (12-04-4332P) | The Honorable Kenneth Boswell, Mayor, City of Enterprise, 501 South Main Street, Enterprise, AL 36331 | City Hall, 501 South Main Street, Enterprise, AL 36331 | February 7, 2013 | 010045
Arizona:
Maricopa (FEMA Docket No.: B-1288) | Unincorporated areas of Maricopa County (12-09-2621P) | The Honorable Max W. Wilson, Chairman, Maricopa County Board of Supervisors, 301 West Jefferson, 10th Floor, Phoenix, AZ 85003 | Maricopa County Flood Control District, 2801 West Durango Street, Phoenix, AZ 85009 | January 25, 2013 | 040037
Pinal (FEMA Docket No.: B-1285) | City of Eloy (12-09-1641P) | The Honorable Joseph Nagy, Mayor, City of Eloy, 628 North Main Street, Eloy, AZ 85131 | City Hall, 628 North Main Street, Eloy, AZ 85131 | February 25, 2013 | 040083
Pinal (FEMA Docket No.: B-1285) | Unincorporated areas of Pinal County (12-09-1641P) | The Honorable David Snider, Chairman, Pinal County Board of Supervisors, P.O. Box 827, Florence, AZ 85132 | Pinal County Engineering Department, 31 North Pinal Street, Building F, Florence, AZ 85232 | February 25, 2013 | 040077
Yavapai (FEMA Docket No.: B-1285) | Unincorporated areas of Yavapai County (12-09-2033P) | The Honorable Thomas Thurman, Chairman, Yavapai County Board of Supervisors, 1015 Fair Street, Prescott, AZ 86305 | Yavapai County Flood Control District, 500 South Marina Street, Prescott, AZ 86303 | February 11, 2013 | 040093
California:
Orange (FEMA Docket No.: B-1285) | City of Dana Point (12-09-1603P) | The Honorable Lara Anderson, Mayor, City of Dana Point, 33282 Golden Lantern, Dana Point, CA 92629 | City Hall, 33282 Golden Lantern, Dana Point, CA 92629 | February 11, 2013 | 060736
Orange (FEMA Docket No.: B-1285) | City of San Juan Capistrano (12-09-1603P) | The Honorable Larry Kramer, Mayor, City of San Juan Capistrano, 32400 Paseo Adelanto, San Juan Capistrano, CA 92675 | City Hall, 32400 Paseo Adelanto, San Juan Capistrano, CA 92675 | February 11, 2013 | 060231
Santa Clara (FEMA Docket No.: B-1285) | City of Santa Clara (12-09-2856P) | The Honorable Jamie L. Matthews, Mayor, City of Santa Clara, 1500 Warburton Avenue, Santa Clara, CA 95050 | Planning and Inspection Department, 1500 Warburton Avenue, Santa Clara, CA 95050 | February 14, 2013 | 060350
Colorado:
Larimer (FEMA Docket No.: B-1280) | Town of Wellington (12-08-0629P) | The Honorable Travis Vieira, Mayor, Town of Wellington, P.O. Box 127, Wellington, CO 80549 | Town Hall, 3735 Cleveland Street, Wellington, CO 80549 | February 4, 2013 | 080104
Larimer (FEMA Docket No.: B-1280) | Unincorporated areas of Larimer County (12-08-0629P) | The Honorable Lew Gaiter III, Chairman, Larimer County Board of Commissioners, P.O. Box 1190, Fort Collins, CO 80522 | Larimer County Courthouse, 200 West Oak Street, Fort Collins, CO 80521 | February 4, 2013 | 080101
Florida:
Bay (FEMA Docket No.: B-1280) | City of Panama City Beach (12-04-4609P) | The Honorable Gayle Oberst, Mayor, City of Panama City Beach, 110 South Arnold Road, Panama City Beach, FL 32413 | City Hall, Building Department, 110 South Arnold Road, Panama City Beach, FL 32413 | February 11, 2013 | 120013
Monroe (FEMA Docket No.: B-1286) | Unincorporated areas of Monroe County (12-04-5100P) | The Honorable David Rice, Mayor, Monroe County, Marathon Airport Terminal, 9400 Overseas Highway, Suite 210, Marathon, FL 33050 | Monroe County Building Department, 2798 Overseas Highway, Suite 330, Marathon, FL 33050 | February 18, 2013 | 125129
Monroe (FEMA Docket No.: B-1286) | Unincorporated areas of Monroe County (12-04-6679P) | The Honorable David Rice, Mayor, Monroe County, Marathon Airport Terminal, 9400 Overseas Highway, Suite 210, Marathon, FL 33050 | Monroe County Building Department, 2798 Overseas Highway, Suite 330, Marathon, FL 33050 | February 4, 2013 | 125129
Orange (FEMA Docket No.: B-1280) | City of Orlando, (12-04-6290P) | The Honorable Buddy Dyer, Mayor, City of Orlando, P.O. Box 4990, Orlando, FL 32808 | Permitting Services, 400 South Orange Avenue, Orlando, FL 32302 | February 4, 2013 | 120186
Sarasota (FEMA Docket No.: B-1280) | Town of Longboat Key (12-04-4786P) | The Honorable Jim Brown, Mayor, Town of Longboat Key, 501 Bay Isles Road, Longboat Key, FL 34228 | Planning, Zoning, and Building Department, 501 Bay Isles Road, Longboat Key, FL 34228 | February 8, 2013 | 125126
Seminole (FEMA Docket No.: B-1280) | Unincorporated areas of Seminole County (12-04-6244P) | The Honorable Brenda Carey, Chair, Seminole County Board of Commissioners, 1101 East 1st Street, Sanford, FL 32771 | Seminole County Public Works Department, 1101 East 1st Street, Sanford, FL 32771 | February 4, 2013 | 120289
North Carolina:
Cabarrus (FEMA Docket No.: B-1285) | City of Kannapolis (11-04-6249P) | The Honorable Robert S. Misenheimer, Mayor, City of Kannapolis, 246 Oak Avenue, Kannapolis, NC 28081 | City Hall, 246 Oak Avenue, Kannapolis, NC 28081 | January 31, 2013 | 370469
Wake (FEMA Docket No.: B-1274) | Town of Fuquay-Varina (11-04-7980P) | The Honorable John W. Byrne, Mayor, Town of Fuquay-Varina, 401 Old Honeycutt Road, Fuquay-Varina, NC 27526 | Engineering Department, 401 Old Honeycutt Road, Fuquay-Varina, NC 27526 | December 13, 2012 | 370239
South Carolina: Richland (FEMA Docket No.:, B-1285) | City of Columbia (12-04-1814P) | The Honorable Steve Benjamin, Mayor, City of Columbia, P.O. Box 147, Columbia, SC 29201 | Department of Utilities and Engineering, 1136 Washington Street, Columbia, SC 29217 | February 11, 2013 | 450172
South Dakota: Pennington (FEMA Docket No.: B-1285) | City of Box Elder (12-08-0544P) | The Honorable William F. Griffths, Sr., Mayor, City of Box Elder, 420 Villa Drive, Box Elder, SD 57719 | City Hall, 420 Villa Drive, Box Elder, SD 57719 | February 14, 2013 | 460089
Tennessee:
Williamson (FEMA Docket No.: B-1280) | City of Franklin (12-04-6046P) | The Honorable Ken Moore, Mayor, City of Franklin, 109 3rd Avenue South, Franklin, TN 37064 | City Hall, 109 3rd Avenue South, Franklin, TN 37064 | February 4, 2013 | 470206
Williamson (FEMA Docket No.: B-1280) | Unincorporated areas of Williamson County, (12-04-6046P) | The Honorable Rodgers Anderson, Mayor, Williamson County, 1320 West Main Street, Suite 125, Franklin, TN 37064 | Williamson County Complex, Planning Department, 1320 West Main Street, Suite 125, Franklin, TN 37064 | February 4, 2013 | 470204
Utah:
Washington (FEMA Docket No.: B-1286) | City of St. George (12-08-0643P) | The Honorable Daniel D. McArthur, Mayor, City of St. George, 175 East 200 North, St. George, UT 84770 | Engineering Department, 175 East 200 North, St. George, UT 84770 | February 25, 2013 | 490177
Wyoming:
Crook (FEMA Docket No.: B-1280) | Town of Sundance (12-08-0746P) | The Honorable Paul S. Brooks, Mayor, Town of Sundance, 213 East Main Street, Sundance, WY 82729 | City Hall, 213 Main Street, Sundance, WY 82729 | February 8, 2013 | 560017
Sweetwater (FEMA Docket No.: B-1280) | City of Rock Springs (12-08-0454P) | The Honorable Carl R. Demshar, Jr., Mayor, City of Rock Springs, 212 D Street, Rock Springs, WY 82901 | Department of Public Works, 212 D Street, Rock Springs, WY 82901 | February 11, 2013 | 560051

(Catalog of Federal Domestic Assistance No. 97.022, “Flood Insurance.”)

Roy E. Wright,
Deputy Associate Administrator for Mitigation, Department of Homeland Security, Federal Emergency Management Agency.

[FR Doc. 2013-08041 Filed 4-5-13; 8:45 am]

BILLING CODE 9110-12-P